DEPARTMENT OF THE INTERIOR

Bureau of Land Management

[LLAZ910000.L12100000.XP0000LXSS150A00006100.241A]

State of Arizona Resource Advisory Council Meeting

AGENCY: Bureau of Land Management, Interior.

ACTION: Notice of Arizona Resource Advisory Council Meeting.

SUMMARY: In accordance with the Federal Land Policy and Management Act of 1976 and the Federal Advisory Committee Act of 1972, the U.S. Department of the Interior, Bureau of Land Management (BLM), Arizona Resource Advisory Council (RAC), will meet on March 18, 2010, at the BLM National Training Center located at 9828 North 31st Avenue in Phoenix from 8 a.m. until 4:30 p.m. Agenda items include: BLM State Director's update on statewide issues; Update on Renewable Energy Development and an in-depth RAC discussion and recommendations on issues to consider for the Renewable Energy footprint on Arizona public lands; Update on the Proposed Mineral Withdrawal Environmental Impact Statement process; Presentation on the California Condor Reintroduction Program; RAC questions on BLM District Managers' Reports; and reports by RAC working groups. A public comment period will be provided at 11:30 a.m. on March 18, 2010, for any interested publics who wish to address the Council on BLM programs and business.

Under the Federal Lands Recreation Enhancement Act, the RAC has been designated as the Recreation Resource Advisory Council (RRAC), and has the authority to review all BLM and Forest Service (FS) recreation fee proposals in Arizona. Part of the afternoon meeting agenda on March 18, will include review and discussion of the Recreation Enhancement Act (REA) Working Group Report and two FS recreation fee proposals in Arizona.

The Coronado National Forest will be completing renovation of the Kent Springs Cabin located in Madera Canyon, 15 miles southeast of Green Valley, Arizona. The FS is proposing to make this property available to the public as an overnight rental for $150 per night. The Kent Springs Cabin with its six rooms can accommodate up to eight people. The house contains two bedrooms, one full bathroom, two living rooms, a fully-equipped kitchen and a large outdoor deck.

The Kaibab National Forest proposes to begin charging a new fee for the daily rental of Hull Cabin, located one mile south of the Grand Canyon on the Tusayan Ranger District. The new fee will consist of a summer rate of $110.00 per day without water/$140.00 per day with water, and a winter rate of $75.00 per day without water. Hull Cabin is listed on the National Register of Historic Places and is the oldest surviving historic cabin near the Grand Canyon's south rim. Initially, the cabin will be available for overnight use with a maximum capacity of six people. Management of the cabin may expand to include use as a group site and/or development of equestrian facilities.

Following the presentations, the RRAC will open the meeting to public comments on the fee proposals. After completing their RRAC business, the BLM RAC will reconvene to provide recommendations to the RAC Designated Federal Official on the fee proposals and discuss future RAC meetings and locations.

DATES: Effective Date: March 18, 2010.

FOR FURTHER INFORMATION CONTACT: Deborah Stevens, Bureau of Land Management, Arizona State Office, One North Central Avenue, Suite 800, Phoenix, Arizona 85004-4427, 602-417-9215.

Raymond Suazo,
Acting Arizona State Director.

[FR Doc. 2010-3195 Filed 2-18-10; 8:45 am]

BILLING CODE 4310-32-P